DEPARTMENT OF LABOR

Occupational Safety and Health Administration

29 CFR Part 1926

[Docket ID-OSHA-2007-0026]

RIN 1218-AB47

Confined Spaces in Construction

AGENCY: Occupational Safety and Health Administration (OSHA), Labor.

ACTION: Notice of Proposed Rulemaking; extension of written comment period.

SUMMARY: On November 28, 2007, OSHA published a Notice of Proposed Rulemaking (NPRM) titled “Confined Spaces in Construction.” The period for submitting written comments is being extended 30 days to allow parties affected by the rule more time to review the proposed rule and collect information and data necessary for comments.

DATES: Comments must be submitted (postmarked or sent) by February 28, 2008.

ADDRESSES: You may submit written comments, identified by Docket No. OSHA-2007-0026, by any of the following methods:

Electronically: You may submit comments and attachments electronically at http://www.regulations.gov, which is the Federal eRulemaking Portal. Follow the instructions online for making electronic submissions.

Fax: If your comments, including attachments, do not exceed 10 pages, you may fax them to the OSHA Docket Office at (202) 693-1648.

Mail, hand delivery, express mail, messenger or courier service: You must submit three copies of your comments and attachments to the OSHA Docket Office, Docket No. OSHA-2007-0026, U.S. Department of Labor, Room N-2625, 200 Constitution Avenue, NW., Washington, DC 20210; telephone (202) 693-2350 (OSHA's TTY number is (877) 889-5627). Deliveries (hand, express mail, messenger and courier service) are accepted during the Department of Labor's and Docket Office's normal business hours, 8:15 a.m.-4:45 p.m., E.T.

Instructions: All submissions must include the Agency name and the docket number for this rulemaking (Docket No. OSHA-2007-0026). All comments, including any personal information you provide, are placed in the public docket without change and may be made available online at http://www.regulations.gov. Therefore, OSHA cautions you about submitting personal information such as social security numbers and birthdates. For further information on submitting comments, plus additional information on the rulemaking process, see the SUPPLEMENTARY INFORMATION section of this document.

Docket: To read or download comments and materials submitted in response to this Federal Register notice, go to Docket No. OSHA-2007-0026 at http://www.regulations.gov or at the OSHA Docket Office at the above address. All comments and submissions are listed in the http://www.regulations.gov index; however, some information (e.g., copyrighted material) is not publicly available to read or download through that Web page. All comments and submissions, including copyrighted material, are available for inspection and copying at the OSHA Docket Office.

For information on accessing exhibits referenced in the Confined Spaces in Construction proposal, see the “Public Participation” heading in the SUPPLEMENTARY INFORMATION section of this document.

Electronic copies of this Federal Register document are available at http://www.regulations.gov. Copies also are available from the OSHA Office of Publications, Room N-3101, U.S. Department of Labor, 200 Constitution Avenue, NW., Washington, DC 20210; telephone (202) 693-1888. This document, as well as news releases and other relevant information, also are available at OSHA's Web page at http://www.osha.gov.

FOR FURTHER INFORMATION CONTACT: General information and press inquiries: Contact Mr. Kevin Ropp, Office of Communications, Room N-3647, OSHA, U.S. Department of Labor, 200 Constitution Avenue, NW., Washington, DC 20210; telephone (202) 693-1999.

Technical inquiries: Contact Mr. Garvin Branch, Directorate of Construction, Room N-3468, OSHA, U.S. Department of Labor, 200 Constitution Avenue, NW., Washington, DC 20210; telephone (202) 693-2020 or fax (202) 693-1689.

SUPPLEMENTARY INFORMATION:

I. Extension of Comment Period

On November 28, 2007, at 72 FR 67351, OSHA published a Notice of Proposed Rulemaking (NPRM) titled “Confined Spaces in Construction.” In this NPRM, OSHA announced a proposed rule for confined spaces in construction; provided an explanation of the rule and its economic analysis; and solicited comments from the public regarded various confined-spaces issues. The period for submitting written comments was to expire on January 28, 2008. However, the following associations have requested a 60-day extension for submitting their written comments and information: The National Association of Home Builders (NAHB), the National Utility Contractors Association (NUCA), and the Associated Builders and Contractors Association (ABC). The NAHB cites as reasons for its request the complexity of the rule and its need for additional time to enable them to consult with their members. The ABC cites these reasons and notes that the comment period coincided with the holiday season, which made it more difficult for ABC to survey its members on the NPRM.

OSHA believes that a 30-day extension will be sufficient to accommodate these considerations, facilitate the submission of more thorough reviews, and provide OSHA with a complete record for this proposed rule. Accordingly, the comment period has been extended by 30 days and written comments must now be submitted (sent or postmarked) by February 28, 2008.

II. Submission of Comments and Access to Comments

You may submit comments in response to this document (1) electronically at http://www.regulations.gov, which is the Federal eRulemaking Portal; (2) by facsimile (FAX); or (3) by hard copy. All comments, attachments and other material must identify the Agency name and the OSHA docket number for this rulemaking (Docket No. OSHA-2007-0026). You may supplement electronic submissions by uploading document files electronically. If, instead, you wish to mail additional materials in reference to an electronic or fax submission, you must submit three copies to the OSHA Docket Office (see ADDRESSES section). The additional materials must clearly identify your electronic comments by name, date, and docket number so OSHA can attach them to your comments.

Because of security-related procedures, the use of regular mail may cause a significant delay in the receipt of comments. For information about security procedures concerning the delivery of materials by hand, express delivery, messenger or courier service, please contact the OSHA Docket Office (see ADDRESSES section).

Comments and submissions in response to this Federal Register notice are posted without change at http://www.regulations.gov (Docket No. OSHA-2007-0026). Therefore, OSHA cautions commenters about submitting personal information such as social security numbers and date of birth.

Although all submissions in response to this Federal Register notice and all supporting materials cited in the Confined Spaces in Construction proposal are listed in the http://www.regulations.gov and http://dockets.osha.gov indexes, some information (e.g., copyrighted material) is not publicly available to read or download from that Web page. All submissions and supporting materials, including copyrighted material, are available for inspection and copying at the OSHA Docket Office.

Information on using the http://www.regulations.gov Web page to submit comments is available at the Web page's User Tips link. Contact the OSHA Docket Office for information about materials not available through the Web pages and for assistance in using the Internet to locate docket submissions.

Electronic copies of this Federal Register document are available at http://www.regulations.gov. This document, as well as news releases and other relevant information, also are available at OSHA's Web page at http://www.osha.gov.

Authority and Signature

This document was prepared under the authority of Edwin G. Foulke, Jr., Assistant Secretary of Labor for Occupational Safety and Health, U.S. Department of Labor, 200 Constitution Avenue, NW., Washington, DC 20210, pursuant to Sections 4, 6, and 8 of the OSH Act of 1970 (29 U.S.C. 653, 655, 657), Secretary of Labor's Order 5-2007 (72 FR 31159), and 29 CFR part 1911.

Signed at Washington, DC this 17th day of January, 2008.
Edwin G. Foulke, Jr.,
Assistant Secretary of Labor for Occupational Safety and Health.

[FR Doc. E8-1081 Filed 1-22-08; 8:45 am]

BILLING CODE 4510-26-P